COMMITTEE FOR PURCHASE FROM PEOPLE WHO ARE BLIND OR SEVERELY DISABLED

Procurement List Additions and Deletions

AGENCY: Committee for Purchase From People Who Are Blind or Severely Disabled.

ACTION: Additions to and deletions from the Procurement List.

SUMMARY: This action adds to the Procurement List services to be furnished by nonprofit agencies employing persons who are blind or have other severe disabilities, and deletes from the Procurement List services previously furnished by such agencies.

DATES: Effective Date: August 26, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION:

Additions

On May 25 and June 1 2007, the Committee for Purchase From People Who Are Blind or Severely Disabled published notice (72 FR 29296; 30541) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services:

Service Type/Location: Document Destruction, Internal Revenue Service (9 locations in Florida): 1 Dependent Drive, 200 W. Forsyth Street, 4057 Carmichael Drive, 550 Water Street, 6800 Southpoint Parkway, 841 Prudential Drive, Jacksonville, FL.; 104 N. Main Street, Gainsville, FL.; 330 SW 34th Avenue (Paddock Park), Ocala, FL.; 921 N. Nova Boulevard, Holly Hill, FL.

NPA: Challenge Enterprises of North Florida, Inc., Green Cove Springs, FL.

Contracting Activity: Department of Treasury, Internal Revenue Services, Chamblee, GA.

Service Type/Location: Post-wide Administrative Support Services, Fort Bragg, Fort Bragg, NC.

NPA: Employment Source, Inc., Fayetteville, NC.

Contracting Activity: ARMY-BRAGG, Directorate of Contracting, Fort Bragg, NC.

Deletions

On June 1, 2007, the Committee for Purchase From People Who Are Blind or Severely Disabled published notice (72 FR 30542) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Family Housing Maintenance, Watervliet Arsenal, Rotterdam Housing Area, Watervliet, NY.

NPA: Uncle Sam's House, Inc., Schenectady, NY.

Contracting Activity: Watervliet Arsenal, Watervliet, NY.

Service Type/Location: Food Service Attendant, Air National Guard-Phoenix, 3200 E Old Tower Road, Phoenix, AZ.

NPA: Goodwill Community Services, Inc., Phoenix, AZ.

Contracting Activity: Air National Guard-Phoenix, Phoenix, AZ.

Patrick Rowe,
Deputy Executive Director.

[FR Doc. E7-14522 Filed 7-26-07; 8:45 am]

BILLING CODE 6353-01-P